DEPARTMENT OF ENERGY

Interagency Working Group on Plant Genomics (IWGPG): The National Plant Genome Initiative—What's Next?

AGENCY: Office of Science, Office of Biological and Environmental Research, Department of Energy (DOE).

ACTION: Notice of Open Workshop.

SUMMARY: This notice announces a workshop organized by the Interagency Working Group on Plant Genomics (IWGPG).

DATES: Saturday, January 12, 2013, 1:30 p.m. to 3:40 p.m.

ADDRESSES: Town and Country Resort and Conference Center, 500 Hotel Circle North, San Diego, CA 92108 (https://pag.confex.com/pag/xxi/webprogram/Session1711.html).

FOR FURTHER INFORMATION CONTACT: Dr. Catherine Ronning, U.S. Department of Energy, Office of Science, Office of Biological and Environmental Research, SC-23-2/Germantown Building, 1000 Independence Avenue SW., Washington, DC 20585-1290. Phone 301-903-9549, fax (301) 903-5051, email: catherine.ronning@science.doe.gov; Dr. Jane Silverthorne, National Science Foundation, Division of Integrative Organismal Systems, 4201 Wilson Boulevard, Arlington, Virginia 22230. Phone (703) 292-7171, fax (703) 292-9153, email: jsilvert@nsf.gov. The most current information concerning this workshop can be found on the Web site: https://extwiki.nsf.gov/x/DQAOAQ.

SUPPLEMENTARY INFORMATION: Purpose of the Workshop: To seek input into the identification of strategic research needs and resource gaps for the development of sustainable systems for food, bioenergy, and industrial feedstock production, with a specific focus on the management of plant genomics data, metadata, and data standardization.

Summary: The National Plant Genome Initiative (NPGI) was established in 1998 as a coordinated national research program by the Interagency Working Group on Plant Genomes (IWGPG) under the Committee on Science of the National Science and Technology Council. The goal of the NPGI is to develop a basic knowledge of the structures and functions of plant genomes and to translate this knowledge to a comprehensive understanding of all aspects of economically important plants and plant processes of potential economic value. By bridging basic research and plant performance in the field, the NPGI seeks to accelerate basic discovery and innovation in economically important plants and enable enhanced management of agriculture, natural resources, and the environment to meet societal needs.

The activities of the NPGI have been coordinated through three Five Year Plans covering 1998-2001, 2002-2008, and 2009-2013. The IWGPG was re-established in November 2012 under the Life Sciences Subcommittee of the Committee on Science to engage the plant community in prioritizing genomics tools and resources, define new strategies that will meet community needs and priorities sustainably, advance biological innovation and breakthrough discovery, and improve coordination among Federal agencies and international plant genomics partners. This new working group is composed of representatives from DOE, NSF, the U.S. Dept. of Agriculture (USDA), the Environmental Protection Agency (EPA), the U.S. Agency for International Development (USAID), the Smithsonian Institution, the U.S. Dept. of Interior (DOI), and the National Institutes of Health (NIH). As part of its activities, the IWGPG has been charged with seeking input from the broader research community, including the public and private sectors as well as the international community, towards the development of the NPGI 2014-2018 Strategic Plan. In this workshop consideration will be given to:

• Minimization of inputs such as water, energy, pesticides, and fertilizer;

• Effects of climate change and increasing agricultural productivity;

• Minimization of environmental impacts using plant genomics;

• Opportunities for Federal agency coordination, cooperation, public/private partnerships;

• Associated opportunities to enhance training, education, and public outreach.

Short presentations will be given on potential priorities as a starting point for discussion.

Public Participation: The workshop is open to the public. Public comment will be accepted before and after the workshop through the Web site: https://extwiki.nsf.gov/x/DQAOAQ.

Workshop Report: The report produced by this workshop will be available to the public within 60 days at the Web site: https://extwiki.nsf.gov/x/DQAOAQ.

Issued in Washington, DC, on December 13, 2012.
Sharlene C. Weatherwax,
Associate Director of Science for Biological and Environmental Research, U.S. Department of Energy.

[FR Doc. 2012-30630 Filed 12-19-12; 8:45 am]

BILLING CODE 6450-01-P